OFFICE OF THE UNITED STATES TRADE REPRESENTATIVE

Procurement Thresholds for Implementation of the Trade Agreements Act of 1979

AGENCY: Office of the United States Trade Representative.

ACTION: Determination of procurement thresholds under the World Trade Organization Government Procurement Agreement, the United States-Australia Free Trade Agreement, the United States-Chile Free Trade Agreement, the North American Free Trade Agreement, and the United States-Singapore Free Trade Agreement.

FOR FURTHER INFORMATION CONTACT: Dawn Shackleford, Director for International Procurement, Office of the United States Trade Representative, (202) 395-9461 or Dawn_Shackleford@ustr.eop.gov.

SUMMARY: Executive Order 12260 requires the United States Trade Representative to set the U.S. dollar thresholds for application of Title III of the Trade Agreements Act of 1979, as amended (19 U.S.C. 2511 et seq.), which implements U.S. trade agreement obligations, including those under the World Trade Organization (WTO) Government Procurement Agreement, Chapter 15 of the United States-Australia Free Trade Agreement, Chapter 9 of the United States-Chile Free Trade Agreement, Chapter 10 of the North American Free Trade Agreement (NAFTA), and Chapter 13 of the United States-Singapore Free Trade Agreement. These obligations apply to covered procurements valued at or above specified U.S. dollar thresholds.

Now, therefore, I, Rob Portman, United States Trade Representative, in conformity with the provisions of Executive Order 12260, and in order to carry out U.S. trade agreement obligations under the World Trade Organization (WTO) Government Procurement Agreement, Chapter 15 of the United States-Australia Free Trade Agreement, Chapter 9 of the United States-Chile Free Trade Agreement, Chapter 10 of NAFTA, and Chapter 13 of the United States-Singapore Free Trade Agreement, do hereby determine, effective on January 1, 2006:

For the calendar years 2006-2007, the thresholds are as follows:

I. WTO Government Procurement Agreement

A. Central Government Entities listed in U.S. Annex 1:

(1) Procurement of goods and services—$193,000; and

(2) Procurement of construction services—$7,407,000.

B. Sub-Central Government Entities listed in U.S. Annex 2:

(1) Procurement of goods and services—$526,000; and

(2) Procurement of construction services—$7,407,000.

C. Other Entities listed in U.S. Annex 3:

(1) Procurement of goods and services—$593,000; and

(2) Procurement of construction services—$7,407,000.

II. U.S.-Australia Free Trade Agreement, Chapter 15

A. Central Government Entities listed in the U.S. Schedule to Annex 15-A, Section 1:

(1) Procurement of goods and services—$64,786; and

(2) Procurement of construction services—$7,407,000.

B. Sub-Central Government Entities listed in the U.S. Schedule to Annex 15-A, Section 2:

(1) Procurement of goods and services—$526,000; and

(2) Procurement of construction services—$7,407,000.

C. Other Entities listed in the U.S. Schedule to Annex 15-A, Section 3:

(1) Procurement of goods and services for List A Entities—$323,929;

(2) Procurement of goods and services for List B Entities— $593,000;

(3) Procurement of construction services—$7,407,000.

III. U.S.-Chile Free Trade Agreement, Chapter 9

A. Central Government Entities listed in the U.S. Schedule to Annex 9.1, Section A:

(1) Procurement of goods and services—$64,786; and

(2) Procurement of construction services—$7,407,000.

B. Sub-Central Government Entities listed in the U.S. Schedule to Annex 9.1, Section B:

(1) Procurement of goods and services—$526,000; and

(2) Procurement of construction services—$7,407,000.

C. Other Entities listed in the U.S. Schedule to Annex 9.1, Section C:

(1) Procurement of goods and services for List A Entities— $323,929;

(2) Procurement of goods and services for List B Entities—$593,000;

(3) Procurement of construction services—$7,407,000.

IV. North American Free Trade Agreement (NAFTA), Chapter 10

A. Federal Government Entities listed in the U.S. Schedule to Annex 1001.1a-1:

(1) Procurement of goods and services—$64,786; and

(2) Procurement of construction services—$8,422,165.

B. Government Enterprises listed in the U.S. Schedule to Annex 1001.1a-2:

(1) Procurement of goods and services—$323,929; and

(2) Procurement of construction services—$10,366,227.

V. U.S.-Singapore Free Trade Agreement, Chapter 13

A. Central Government Entities listed in the U.S. Schedule to Annex 13A, Schedule 1, Section A:

(1) Procurement of goods and services—$64,786; and

(2) Procurement of construction services—$7,407,000.

B. Sub-Central Government Entities listed in the U.S. Schedule to Annex 13A, Schedule 1, Section B:

(1) Procurement of goods and services—$526,000; and

(2) Procurement of construction services—$7,407,000.

C. Other Entities listed in the U.S. Schedule to Annex 13A, Schedule 1, Section C:

(1) Procurement of goods and services—$593,000;

(2) Procurement of construction services—$7,407,000.

Rob Portman,
United States Trade Representative.

[FR Doc. E5-7236 Filed 12-9-05; 8:45 am]

BILLING CODE 3190-W6-P